DEPARTMENT OF COMMERCE

National Oceanic and Atmospheric Administration

RIN 0648-XE992

Fisheries of the South Atlantic; South Atlantic Fishery Management Council; Public Meeting

AGENCY: National Marine Fisheries Service (NMFS), National Oceanic and Atmospheric Administration (NOAA), Commerce.

ACTION: Notice of public meeting.

SUMMARY: The South Atlantic Fishery Management Council will hold a meeting of its Habitat Protection and Ecosystem-Based Management (Habitat) Advisory Panel (AP) in St. Petersburg, FL. The meeting is open to the public.

DATES: The meeting will be held from 9 a.m. until 4:30 p.m. on Tuesday, November 15, 2016, and from 9 a.m. until 4:30 p.m. on Wednesday, November 16, 2016.

ADDRESSES: Meeting address: The meeting will be held at the Florida Fish and Wildlife and Resources Institute (FWRI), Florida Fish and Wildlife Conservation Commission, 100 8th Ave. SE. 3370, St. Petersburg, FL; phone: (727) 896-8626.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone (843) 571-4366 or toll free (866) SAFMC-10; fax (843) 769-4520; email: kim.iverson@safmc.net.

SUPPLEMENTARY INFORMATION: Items to be addressed or sessions to be conducted during this meeting include: Updates on the Fishery Ecosystem Plan (FEP) II development including new sections on South Atlantic Climate Variability and Fisheries and South Atlantic Food Webs and Connectivity; Draft Policy Statements for Artificial Reefs, South Atlantic Food Webs and Connectivity and South Atlantic Climate Variability and Fisheries; status report on ecosystem modeling and tool development to inform and support FEP II; Ecosystem research needs; the South Atlantic Landscape Conservation Cooperative (SALCC) Conservation Blueprint Version 2.1; and status of the Lenfest Fishery Ecosystem Task Force. In addition, NOAA Fisheries Habitat Conservation Division, as needed, will brief the Panel on Essential Fish Habitat related permit and policy reviews and comments.

Special Accommodations

These meetings are physically accessible to people with disabilities. Requests for auxiliary aids should be directed to the Council office (see ADDRESSES) 5 days prior to the meeting.

Note: The times and sequence specified in this agenda are subject to change.

Dated: October 21, 2016.
Tracey L. Thompson,
Acting Deputy Director, Office of Sustainable Fisheries, National Marine Fisheries Service.

[FR Doc. 2016-25885 Filed 10-25-16; 8:45 am]

BILLING CODE 3510-22-P